DEPARTMENT OF DEFENSE

Defense Acquisition Regulations System

[Docket Number DARS-2014-0052]

Information Collection Requirement; Defense Federal Acquisition Regulation Supplement; Independent Research and Development Technical Descriptions

AGENCY: Defense Acquisition Regulations System, Department of Defense (DoD).

ACTION: Notice and request for comments regarding a proposed extension of an approved information collection requirement.

SUMMARY: In compliance with section 3506(c)(2)(A) of the Paperwork Reduction Act of 1995 (44 U.S.C. chapter 35), DoD announces the proposed extension of a public information collection requirement and seeks public comment on the provisions thereof. DoD invites comments on: (a) Whether the proposed collection of information is necessary for the proper performance of the functions of DoD, including whether the information will have practical utility; (b) the accuracy of the estimate of the burden of the proposed information collection; (c) ways to enhance the quality, utility, and clarity of the information to be collected; and (d) ways to minimize the burden of the information collection on respondents, including the use of automated collection techniques or other forms of information technology. The Office of Management and Budget (OMB) has approved this information collection under Control Number 0704-0483 for use through January 31, 2015. DoD is proposing that OMB extend its approval for use for three additional years.

DATES: DoD will consider all comments received by November 25, 2014.

ADDRESSES: You may submit comments, identified by OMB Control Number 0704-0483, using any of the following methods:

○ Federal eRulemaking Portal: http://www.regulations.gov. Follow the instructions for submitting comments.

○ Email: osd.dfars@mail.mil. Include OMB Control Number 0704-0483 in the subject line of the message.

○ Fax: (571) 372-6094.

○ Mail: Defense Acquisition Regulations System, Attn: Mr. Mark Gomersall, OUSD(AT&L)DPAP(DARS), 3060 Defense Pentagon, Room 3B941, Washington, DC 20301-3062.

Comments received generally will be posted without change to http://www.regulations.gov, including any personal information provided.

FOR FURTHER INFORMATION CONTACT: Mr. Mark Gomersall, at (571) 372-6099. The information collection requirements addressed in this notice are available on the World Wide Web at: http://www.acq.osd.mil/dpap/dars/dfarspgi/current/index.htm. Paper copies are available from Mr. Mark Gomersall, OUSD(AT&L)DPAP(DARS), 3060 Defense Pentagon, Room 3B941, Washington, DC 20301-3062.

SUPPLEMENTARY INFORMATION: Title, Associated Form, and OMB Number: Defense Federal Acquisition Regulation Supplement (DFARS), Independent Research and Development Technical Descriptions; OMB Control Number 0704-0483.

Needs and Uses: DFARS 231.205-18 requires contractors to report independent research and development (IR&D) projects to the Defense Technical Information Center (DTIC) using the DTIC's online IR&D database. The data provides in-process information on IR&D projects for which DoD reimburses the contractor as an allowable indirect expense. In addition to improving the Department's ability to determine whether contractor IR&D costs are allowable, the data provides visibility into the technical content of industry IR&D activities to meet DoD needs.

Affected Public: Businesses and other for-profit entities.

Number of Respondents: 700.

Responses per Respondent: Approximately 38.5.

Annual Responses: 26,950.

Average Burden per Response: Approximately .5 hours.

Annual Response Burden Hours: 13,475.

Reporting Frequency: At least annually and when the project is completed.

Summary of Information Collection: DFARS 231.205-18 requires contractors to report independent research and development projects to the Defense Technical Information Center (DTIC) using the DTIC's online IR&D database. The inputs must be updated at least annually and when the project is completed.

Manuel Quinones,
Editor, Defense Acquisition Regulations System.

[FR Doc. 2014-22965 Filed 9-25-14; 8:45 am]

BILLING CODE 5001-06-P